DEPARTMENT OF TRANSPORTATION

Federal Railroad Administration

[Docket Number FRA-2016-0115]

Petition for Waiver of Compliance

In accordance with part 211 of Title 49 Code of Federal Regulations (CFR), this document provides the public notice that by a document dated November 28, 2016, CSX Transportation (CSX) has petitioned the Federal Railroad Administration (FRA) for a waiver of compliance from certain provisions of the Federal railroad safety regulations contained at 49 CFR part 236. FRA assigned the petition Docket Number FRA-2016-0115.

CSX seeks relief from the requirements of 49 CFR 236.566, Locomotive of each train operating in train stop, train control or cab signal territory; equipped. Specifically, CSX seeks relief for the following locations and operations:

1. Operations from Control Point (CP) 45 at Milepost (MP) OB44.5 on the Boston Subdivision, Albany Division, near Worcester, MA, to CP 92 at MP OB92.0 on the Berkshire Subdivision, Albany Division, near Springfield, MA, for the following operations with the condition that an absolute block be established in advance of each movement:

a. Engines used in switching and transfer service, with or without cars; work trains; wreck trains; ballast cleaners to and from work; engines and rail diesel cars moving to and from shops. All movements must operate at restricted speed, not exceeding 15 mph.

2. Operations from CP 92 at MP OB92.0 on the Berkshire Subdivision, Albany Division, near Springfield, MA, to CP 187 at MP OB187.4 on the Berkshire Subdivision, Albany Division, near Albany, NY.:

a. Engines used in switching and transfer service, with or without cars; Work trains; Wreck trains; Ballast Cleaners to and from work; Engines and Rail Diesel Cars moving to and from shops. All movements must operate at Restricted Speed, not exceeding 15 mph.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by January 30, 2017 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also https://www.regulations.gov/privacyNotice for the privacy notice of regulations.gov.

Issued in Washington, DC.
Robert C. Lauby,
Associate Administrator for Railroad Safety, Chief Safety Officer.

[FR Doc. 2016-30140 Filed 12-14-16; 8:45 am]

BILLING CODE 4910-06-P